DEPARTMENT OF ENERGY

Federal Energy Regulatory Commission

[Project No. 11150-000-Michigan]

Cameron Gas and Electric Company; Notice of Availability of Draft Environmental Assessment

July 12, 2000.

In accordance with the National Environmental Policy Act of 1969 and the Federal Energy Regulatory Commission's (Commission's) regulations, 18 CFR Part 380 (Order No. 486, 52 FR 47897), the Office of Energy Projects has reviewed the application for an original license for the unlicensed Smithville and Mix Hydroelectric Project located on the Grand River, in the city of Eaton Rapids, Eaton County, Michigan, and has prepared a draft Environmental Assessment (EA) for the project. In the draft EA, the Commission's staff has analyzed the potential environmental effects of the project and has concluded that approval of the project, with appropriate environmental measures, would not constitute a major federal action significantly affecting the quality of the human environment.

Copies of the draft EA are available for review in the Public Reference Branch, Room 2-A, of the Commission's offices at 888 First Street, N.E., Washington, D.C. 20426. The draft EA may also be viewed on the web at http://www.ferc.fed.us/online/rims.htm. Please call (202) 208-222 for assistance.

Any comments should be filed within 45 days from the date of this notice and should be addressed to David P. Boergers, Secretary, Federal Energy Regulatory Commission, 888 First Street, N.E., Room 1-A, Washington, D.C. 20426. Please affix “Smithville and Mix Hydroelectric Project No. 11150” to all comments. For further information, contact William Guey-Lee at (202) 219-2808.

Linwood A. Watson, Jr.,
Acting Secretary.

[FR Doc. 00-17998 Filed 7-14-00; 8:45 am]

BILLING CODE 6717-01-M